DEPARTMENT OF LABOR

Occupational Safety and Health Administration

[Docket No. ICR-1218-0126(2002)]

Acrylonitrile Standard (29 CFR 1910.1045); Extension of the Office of Management and Budget's (OMB) Approval of the Information-Collection (Paperwork) Requirements

AGENCY: Occupation Safety and Health Administration (OSHA), Labor.

ACTION: Request for comment.

SUMMARY: OSHA solicits comments concerning its request to increase the existing burden-hour estimates for, and to extend OMB approval of, the collection-of-information requirements of the Acrylonitrile Standard (29 CFR 1910.1045).¹ This standard protects employees from the adverse health effects that may result from occupational exposure to acrylonitrile, including cancer, skin irritation, and dermatitis.

¹ Based on its assessment of the paperwork requirements contained in this standard, the Agency estimates that the total burden hours increased compared to its previous burden-hour estimate. Under this notice, OSHA is not proposing to revise these paperwork requirement in any substantive manner, only to decrease the burden hours imposed by the existing paperwork requirements.

DATES: Submit written comments on or before January 22, 2002.

ADDRESSES: Submit written comments to the Docket Office, Docket No. ICR-1218-0126(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Todd Owen, Directorate of Policy, OSHA, U.S. Department of Labor, Room N-3641, 200 Constitution Avenue, NW., Washington, DC 20210; telephone (202) 693-2444. A copy of the Agency's Information-Collection Request (ICR) supporting the need for the information collections specified in the Acrylonitrile Standard is available for inspection and copying in the Docket Office, or by requesting a copy from Todd Owen at (202) 693-2444. For electronic copies of the ICR, contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct. The Occupational Safety and Health Act of the 1970 (the “Act”) authorizes information collection by employers as necessary or appropriate for enforcement of the Act, or for developing information regarding the causes and prevention of occupational injuries, illnesses, and accidents (29 U.S.C. 657).

The information-collection requirements specified in the Acrylonitrile Standard (§ 1910.1045; the “Standard”) protect employees from the adverse health effects that may result from occupational exposure to acrylonitrile, including cancer, skin irritation, and determatitis. The major information-collection provisions of the Standard require employers to establish a regulated area, to report an emergency (and any available facts related to the emergency) to the nearest OSHA Area Office within 72 hours of its occurrence, and to perform exposure monitoring; exposure monitoring includes initial monitoring to determine the extent of employee exposure to acrylonitrile, periodic (i.e., at least quarterly) monitoring if employees' acrylonitrile exposures equal or exceed the action level (AL), and additional monitoring if any change occurs in production, processes, controls, or personnel. Employers must also notify each employee, in writing, of their exposure-monitoring results within five working days after receiving these results, establish a written compliance program, institute a respiratory-protection program in accordance with 29 CFR 1910.134 (OSHA's Respiratory Protection Standard), develop and implement a written emergency plan for each workplace in which liquid acrylonitrile is present, and inform laundry personnel who clean or launder protective clothing of the potentially harmful effects of acrylonitrile.

Other paperwork requirements of the Standard specify that employers must provide employees with medical examinations, including initial examinations for new employees prior to their job assignments, periodic (i.e., at least annually) medical examinations if employees' acrylonitrile exposures are at or above the Al, and employment-termination examinations to employees covered by the medical-surveillance program. As part of the medical-surveillance program, employers must provide specific written information to the examining physicians, and obtain from these physicians a written opinion regarding the employees' medical results and exposure limitations.

Additional provisions of the Standard require employers to train the following employees prior to their initial assignments, and at least annually thereafter: Employees expose to acrylonitrile above the AL, those having exposures maintained below the AL by engineering controls and work practices, and those who have potential skin or eye contact with acrylonitrile. In addition, employers must post a warning sign in each work area that has an acrylonitrile concentration above the permissible exposure limit, and affix a label to containers of liquid acrylonitrile and acrylonitrile-based materials.

The Standard also requires employers to maintain records of objective data that exempt them from most of the Standard's paperwork requirements, establish and maintain exposure-monitoring and medical-surveillance records for each employee who is subject to these respective requirements, make any record required by the Standard available to OSHA compliance officers and the National Institute for Occupational Safety and Health (NIOSH) for examination and copying, and provide exposure-monitoring and medical-surveillance records to employees and their designated representatives on request. Finally, employers who cease to do business without a successor employer to receive and retain records for the required periods, and employers who plan to dispose of records at the end of the required retention periods, must transfer these records to NIOSH.

Employees and their designated representatives use exposure-monitoring and medical-surveillance records to assess employee medical status over the course of employment, to evaluate the effectiveness of an employer's exposure-reduction program, and for other reasons. In addition, the required records may result in both direct and indirect improvements in the detection, treatment, and prevention of occupational exposure to acrylonitrile. OSHA compliance officers use these records to assess employer compliance with the major requirements of the Standard, while NIOSH may compile these records for research purposes. In addition, with NIOSH serving as a repository for exposure-monitoring and medical-surveillance records, employees have continuous access to their records if needed for health or other reasons.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA is proposing to increase the existing burden-hour estimate for, and to extend OMB approval of, the collection-of-information requirements specified in the Standard. In this regard, the agency is proposing to increase the total burden-hour estimate from 4,428 hours to 4,433 hours, an increase of five hours. Additional burden hours for employee training accounted for much of the net increase in estimated burden hours. In addition, capital costs rose from $197,314 to $222,765 because of an increase in the cost of medical examinations. OSHA will summarize the comments submitted in response to this notice, and will include this summary in its request to OMB to extend the approval of this information-collection requirements.

Type of Review: Extension of currently approved information-collection requirements.

Title: Acrylonitrile (29 CFR 1910.1045).

OMB Number: 1218-0126.

Affected Public: Business or other for-profit; not-for-profit institutions; Federal government; State, local, or tribal governments.

Number of Respondents: 23.

Frequency of Recordkeeping: Occasionally.

Average Time per Response: Varies from five minutes to maintain employee exposure-monitoring and medical records to one and one-half hours for an employee to receive a medical examination.

Estimated Total Burden Hours: 4,433.

Estimated Cost (Operation and Maintenance): $222,765.

IV. Authority and Signature

John L. Henshaw, Assistant Secretary of Labor for Occupational Safety and Health, directed the preparation of this notice. The authority for this notice is the Paperwork Reduction Act of 1995 (44 U.S.C. 3506) and Secretary of Labor's Order No. 3-2000 (65 FR 50017).

Signed at Washington, DC, on November 15, 2001.
John L. Henshaw,
Assistant Secretary of Labor.

[FR Doc. 01-29138 Filed 11-20-01; 8:45 am]

BILLING CODE 4510-26-M